NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 13, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Robert A. Garrott, Permit Application: 2013-007, Ecology Department, Montana State University, 310 Lewis Hall, Bozeman, MT 59715.

Activity for Which Permit Is Requested

Take, Enter Antarctic Specially Protected Areas, and Import into the U.S.A. The applicant plans to study the demographic consequences of environmental variability and individual heterogeneity in life-history tactics of Weddell seals in Erebus Bay, Antarctica. A breeding population of Weddell seals, a prominent Antarctic apex predator associated with fast ice, has been intensively studied in Erebus Bay at the southern extent of the Ross Sea since 1968. The study's broad objective is to evaluate how temporal variation in the marine environment affects a long-lived mammal's population dynamics. Up to 2,000 adult and pup Weddell seals will be approached to have their tags read. Smaller subsets of approximately 1,150 seals will be tagged or retagged, weighed, tissue sampled, and/or instrumented, then released. In addition, the applicant plans to salvage parts of dead animals encountered and remove vibrissae. The tissue samples will be collected from the margin of the rear flippers and will be imported into the U.S.A. for further study. DNA will be extracted from the samples and used to investigate individual heterogeneity.

The applicant plans to enter ASPA 137-North-west White Island twice annually to census and tag seals in the isolated colony. They also plan to enter ASPA 155-Cape Evans, ASPA 157 Backdoor Bay, Cape Royds, ASPA 158-Hut Point, and ASPA 161-Terra Nova Bay should any of the study's seals should haul out in the those areas.

Location

Erebus Bay, Ross Island vicinity; ASPA 137-North-west White Island; ASPA 155-Cape Evans; ASPA 157 Backdoor Bay, Cape Royds; ASPA 158-Hut Point; and ASPA 161-Terra Nova Bay.

Dates

October 1, 2012 to September 30, 2017.

Nadene G. Kennedy,
Permit Officer, Office of Polar Programs.

[FR Doc. 2012-14282 Filed 6-12-12; 8:45 am]

BILLING CODE 7555-01-P